DEPARTMENT OF LABOR

Employment and Training Administration

Agency Information Collection Activities; Comment Request; Workforce Information Grants to States (WIGS)

ACTION: Notice.

SUMMARY: The Department of Labor (DOL), Employment and Training Administration (ETA) is soliciting comments concerning a proposed revision for the authority to conduct the information collection request (ICR) titled, “Workforce Information Grants to States (WIGS).” This comment request is part of continuing Departmental efforts to reduce paperwork and respondent burden in accordance with the Paperwork Reduction Act of 1995 (PRA), 44 U.S.C. 3501 et seq.

DATES: Consideration will be given to all written comments received by October 14, 2016.

ADDRESSES: A copy of this ICR with applicable supporting documentation; including a description of the likely respondents, proposed frequency of response, and estimated total burden may be obtained free by contacting Donald Haughton by telephone at 202-693-2784, TTY 877-889-5627, (these are not toll-free numbers) or by email at Haughton.Donald.W@dol.gov.

Submit written comments about, or requests for a copy of, this ICR by mail or courier to the U.S. Department of Labor, Employment and Training Administration, Office of Workforce Investment, 200 Constitution Avenue NW., Room C-4510, Washington, DC 20210; by email: Haughton.Donald.W@dol.gov; or by Fax 202-693-3015.

FOR FURTHER INFORMATION CONTACT: Contact Donald Haughton by telephone at 202-693-2784 (this is not a toll-free number) or by email at Haughton.Donald.W@dol.gov.

Authority: 44 U.S.C. 3506(c)(2)(A).

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

This collection of information is necessary to comply with the reporting requirements of the Workforce Innovation and Opportunity Act (WIOA) Section 308 (29 U.S.C. 491-2), which can be found at https://www.gpo.gov/fdsys/pkg/PLAW-113publ128/pdf/PLAW-113publ128.pdf; and 20 Code of Federal Regulations (CFR) Parts 651 and 652 (https://www.doleta.gov/wioa/Docs/wioa-regs-labor-final-rule.pdf).

WIOA Section 308 requires the Secretary of Labor to oversee the development, maintenance, and continuous improvement of a nationwide Workforce and Labor Market Information System (workforce information) system; and to evaluate the performance of the system and recommend needed improvements, taking into consideration customer consultation results, with particular attention given to improvements needed at the state, regional and local levels. The WIGS information collection ensures the Secretary of Labor meets WIOA requirements, and the states complete grant deliverables such as state economic analyses or special workforce information/economic studies, and the annual performance report.

The ETA makes use of the information collected from WIGS grantees primarily to serve four customer groups: (1) The public (including job seekers and employers); (2) labor market intermediaries who help individuals find a job or make career decisions (such as employment and school counselors, case managers at American Job Centers, and community-based organizations); (3) policymakers and employment and economic program planners and operators; and (4) miscellaneous other customers, including researchers, commercial data providers, and the news media.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention Workforce Information Grants to States (WIGS), OMB control number 1205-0417.

Submitted comments will also be a matter of public record for this ICR and posted on the Internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Revision.

Title of Collection: Workforce Information Grants to States (WIGS).

Form: N/A.

OMB Control Number: 1205-0417.

Affected Public: State Workforce Agencies.

Estimated Number of Respondents: 54.

Frequency: Once.

Total Estimated Annual Responses: 162

Estimated Average Time per Response: 578 hours.

Estimated Total Annual Burden Hours: 31,228 hours.

Total Estimated Annual Other Cost Burden: $1,020,218.

Portia Wu,
Assistant Secretary, Employment and Training Administration.

[FR Doc. 2016-19399 Filed 8-12-16; 8:45 am]

BILLING CODE 4510-FN-P